DEPARTMENT OF HEALTH AND HUMAN SERVICES

National Institutes of Health

Proposed Collection; Comment Request; Special Volunteer and Guest Researcher Assignment

SUMMARY: In compliance with the requirement of section 3506(c)(2)(A) of the Paperwork Reduction Act of 1995, for opportunity for public comment on proposed data collection projects, the Office of the Director, National Institutes of Health (NIH) will publish periodic summaries of proposed projects to be submitted to the Office of Management and Budget (OMB) for review and approval.

Proposed Collection: Title: Special Volunteer and Guest Researcher Assignment. Type of Information Collection Request: Extension of OMB No. 0925-0177; 07/31/02. Need and Use of Information Collection: Form NIH-590 records, names, address, employer, education, and other information on prospective Special Volunteers and Guest Researchers, and is used by the responsible NIH approving official to determine the individual's qualifications and eligibility for such assignments. The form is the only official record of approved assignments. Frequency of Response: On occasion. Affected Public: Individuals or households. Type of Respondents: Special Volunteer and Guest Researcher candidates. Estimated Number of Respondents: 1560. Estimated Number of Responses Per Respondent: 1. Average Burden Hours Per Response: .08. Estimated Total Annual Burden Hours Requested: 125.

There are no Capital Costs, Operating Costs, and/or Maintenance Costs to report.

Type of respondents | Estimated number of respondents | Estimated number of responses per respondent | Average burden hours per response | Estimated total annual burden hours requested
Guest Researcher | 370 | 1 | .08 | 29.6
Special Volunteer | 1190 | 1 | .08 | 95.2
Total | 1560 | 1 | .08 | 124.8

Request for Comments: Written comments and/or suggestions from the public and affected agencies are invited on one or more of the following points: (1) Whether the proposed collection of information will have practical utility; (2) The accuracy of the agency's estimate of the proposed collection of information, including the validity of the methodology and assumptions used; (3) Ways to enhance the quality, utility, and the clarity of information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact: Edie Bishop, HR Consultant, Office of Human Resource Management, Senior and Scientific Employment Division, Building 31, Room B3C07, 31 Center Drive MSC 2203, Bethesda, MD 20892.

Comments Due Date: Comments regarding this information collection are best assured of having their full effect if received on or before April 1, 2002.

Dated: January 28, 2002.
Stephen C. Benowitz,
Director, Office of Human Resource Management.

[FR Doc. 02-2400 Filed 1-30-02; 8:45 am]

BILLING CODE 4140-01-M